INTERNATIONAL TRADE COMMISSION

[Investigation Nos. 701-TA-456 and 731-TA-1151-1152 (Review)]

Citric Acid and Certain Citrate Salts From Canada and China; Revised Schedule for Full Five-Year Reviews

AGENCY: United States International Trade Commission.

ACTION: Notice.

DATES: Effective Date: January 26, 2015.

FOR FURTHER INFORMATION CONTACT: Joanna Lo, 202-205-1888, Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On November 5, 2014, the Commission established a schedule for the conduct of these five-year reviews (79 FR 68299, November 14, 2014). The Commission is revising its schedule.

The Commission's new schedule for these reviews is as follows: The hearing will be held at the U.S. International Trade Commission Building at 9:30 a.m. on March 26, 2015; the Commission will make its final release of information on May 7, 2015; and final party comments are due on May 11, 2015.

For further information concerning these reviews, see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: January 29, 2015
Lisa R. Barton,
Secretary to the Commission.

[FR Doc. 2015-02077 Filed 2-2-15; 8:45 am]

BILLING CODE 7020-02-P